DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before June 13, 2023. If you anticipate any difficulty in submitting comments within that period, contact the person listed in the FOR FURTHER INFORMATION CONTACT section as soon as possible.

ADDRESSES: Written comments may be sent by email to shipmentwaiver@nuclear.energy.gov.

FOR FURTHER INFORMATION CONTACT: Mr. John Krohn, Office of Nuclear Energy, Department of Energy, Phone: (202) 586-7246, Email: shipmentwaiver@nuclear.energy.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Titled: Instructions for Requesting an Exception from the Secretary of Energy under Presidential Proclamation Relating to the Regulation of the Anchorage and Movement of Russian-Affiliated Vessels to United States Ports;

(3) Type of Review: New;

(4) Purpose:

Per Proclamation 10371, “Declaration of National Emergency and Invocation of Emergency Authority Relating to the Regulation of the Anchorage and Movement of Russian-Affiliated Vessels to United States Ports” (“the Proclamation”), DOE seeks to provide instructions for requesting an exception from the Secretary of Energy to the prohibition set forth in the Proclamation.

The policies and actions of the Government of the Russian Federation to continue the premeditated, unjustified, unprovoked, and brutal war against Ukraine constitute a national emergency by reason of a disturbance or threatened disturbance of international relations of the United States. In order to address this national emergency and secure the observance of the rights and obligations of the United States, President Biden, by his authority under the Constitution and the laws of the United States of America, including the National Emergencies Act (50 U.S.C. 1601 et seq.) and section 1 of title II of Public Law 65-24, ch. 30, June 15, 1917, as amended (Magnuson Act) (46 U.S.C. 70051), has authorized the Secretary of Homeland Security to make and issue such rules and regulations as appropriate to regulate the anchorage and movement of Russian-affiliated vessels, and delegated to the Secretary of Homeland Security the authority to approve such rules and regulations, as authorized by the Magnuson Act.

Prohibition

Pursuant to the Proclamation, Russian-affiliated vessels are prohibited from entering into United States ports effective April 28, 2022, subject to two limited exceptions. One such exception (Sec. 2(a) of the Proclamation) applies to Russian-affiliated vessels used in the transport of source material, special nuclear material (SNM), and byproduct material for which, and for such time as, the Secretary of Energy, in consultation with the Secretaries of State and Commerce, determines that there is no viable source of supply available that would not require transport by Russian-affiliated vessels.

Application for Secretarial Determination

This proposed collection of information will request information from applicants seeking to request an exception pursuant to Section 2(a) of the prohibition set forth in Section 1 of Proclamation 10371.

(5) Annual Estimated Number of Respondents: 10;

(6) Annual Estimated Number of Total Responses: 20;

(7) Annual Estimated Number of Burden Hours: 40;

(8) Annual Estimated Reporting and Recordkeeping Cost Burden: $2580;

Statutory Authority: Proclamation 10371, “Declaration of National Emergency and Invocation of Emergency Authority Relating to the Regulation of the Anchorage and Movement of Russian-Affiliated Vessels to United States Ports”, April 21, 2022.

Signing Authority

This document of the Department of Energy was signed on April 10, 2023, by Dr. Kathryn Huff, Assistant Secretary for the Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 11, 2023.
Treena V. Garrett,
Federal Register Liaison Officer, U.S. Department of Energy.

[FR Doc. 2023-07899 Filed 4-13-23; 8:45 am]

BILLING CODE 6450-01-P